NATIONAL AERONAUTICS AND SPACE ADMINISTRATION

[Notice (08-032)]

Government-Owned Inventions, Available for Licensing

AGENCY: National Aeronautics and Space Administration.

ACTION: Notice of availability of inventions for licensing.

SUMMARY: The invention listed below assigned to the National Aeronautics and Space Administration, has been filed in the United States Patent and Trademark Office, and is available for licensing.

DATES: April 29, 2008.

FOR FURTHER INFORMATION CONTACT: Kaprice L. Harris, Attorney Advisor, Glenn Research Center at Lewis Field, Code 500-118, Cleveland, OH 44135; telephone (216) 433-5754; fax (216) 433-6790.

NASA Case No. LEW-18248-1: Cellular Reflectarray Antenna.

Dated: April 23, 2008.
Keith T. Sefton,
Deputy General Counsel,Administration and Management.

[FR Doc. E8-9360 Filed 4-28-08; 8:45 am]

BILLING CODE 7510-13-P